DEPARTMENT OF COMMERCE

International Trade Administration

(A-580-841)

Structural Steel Beams from Korea: Notice of Final Results of Antidumping Duty Administrative Review

AGENCY: Import Administration, International Trade Administration, Department of Commerce.

SUMMARY: On September 7, 2006, the Department of Commerce published the preliminary results of the administrative review of the antidumping duty order on structural steel beams from Korea. See Structural Steel Beams from Korea: Preliminary Results of Antidumping Duty Administrative Review, 71 FR 52766 (September 7, 2006) (Preliminary Results). This administrative review covers INI Steel Company and Dongkuk Steel Mill Co., Ltd., manufacturers and exporters of the subject merchandise. The period of review is August 1, 2004, through July 31, 2005.

We did not receive any comments from parties, and we have not made any changes to our analysis. The final weighted-average dumping margins for the reviewed firms are thus unchanged from our preliminary results of review, and are shown in the section entitled “Final Results of Review.”

EFFECTIVE DATE: January 4, 2007.

FOR FURTHER INFORMATION CONTACT: Maryanne Burke or Steve Bezirganian, AD/CVD Operations, Office 7, Import Administration, International Trade Administration, U.S. Department of Commerce, 14th Street & Constitution Avenue, NW, Washington, DC 20230; telephone (202) 482-5604 or (202) 482-1131, respectively.

SUPPLEMENTARY INFORMATION:

Background

On September 7, 2006, the Department published in the Federal Register its preliminary results of the administrative review of structural steel beams from Korea for the period August 1, 2004 through July 31, 2005. See Preliminary Results. No party commented on Preliminary Results.

Scope of the Order

The products covered by this order are doubly-symmetric shapes, whether hot-or cold-rolled, drawn, extruded, formed or finished, having at least one dimension of at least 80 mm (3.2 inches or more), whether of carbon or alloy (other than stainless) steel, and whether or not drilled, punched, notched, painted, coated or clad. These products include, but are not limited to, wide-flange beams (“W” shapes), bearing piles (“HP” shapes), standard beams (“S” or “I” shapes) and M-shapes.

All products that meet the physical and metallurgical descriptions provided above are within the scope of this order unless otherwise excluded. The following products are outside and/or specifically excluded from the scope of this order: structural steel beams greater than 400 pounds per linear foot or with a web or section height (also known as depth) over 40 inches.

The merchandise subject to this order is currently classified in the Harmonized Tariff Schedule of the United States (HTSUS) at subheadings: 7216.32.00000, 7216.33.0030, 7216.33.0060, 7216.33.0090, 7216.50.0000, 7216.61.0000, 7216.69.0000, 7216.99.0010, 7216.99.0090, 7228.70.3010, 7228.70.3041, and 7228.70.6000. Although the HTSUS subheadings are provided for convenience and customs purposes, the written description of the merchandise is dispositive.

Changes Since the Preliminary Results

As noted above, no parties commented on Preliminary Results. The Department is making no changes to its preliminary analysis.

Final Results of Review:

As a result of our review, we determine that the following weighted-average margins exist for the period of August 1, 2004, through July 31, 2005:

Manufacturer/Exporter | Margin
INI Steel Company | 1.91%%
Dongkuk Steel Mill Co., Ltd. | 0.00%%

Assessment Rates

The Department will determine, and U.S. Customs and Border Protection (CBP) shall assess, antidumping duties on all appropriate entries, pursuant to section 751(a)(1)(B) of the Tariff Act of 1930 (the Act), and 19 CFR 351.212(b). The Department calculated importer-specific duty assessment rates (or, when the importer was unknown by the respondent, customer-specific duty assessment rates) on the basis of the ratio of the total amount of antidumping duties calculated for the examined sales observations involving each importer (or customer, when appropriate) to the total entered value of the examined sales observations for that importer (or customer, when appropriate).

The Department clarified its “automatic assessment” regulation on May 6, 2003. This clarification will apply to entries of structural steel beams during the POR produced by INI Steel Company or Dongkuk Steel Mill Co., Ltd. but not imported by one of the importers (or sold to one of the customers) for which importer-specific (or customer-specific) duty assessments rates were calculated. In such instances, we will instruct CBP to liquidate unreviewed entries at the all-others rate if there is no rate for an intermediate company or companies involved in the transaction. For a discussion of this clarification, see Notice of Policy Concerning Assessment of Antidumping Duties, 68 FR 23954 (May 6, 2003). The Department intends to issue assessment instructions to CBP 15 days after the date of publication of these final results of review.

Cash Deposit Requirements

On March 15, 2006, the United States International Trade Commission determined that revocation of the antidumping duty order on structural steel beams from Korea would not likely lead to continuation or recurrence of material injury to an industry in the United States within a reasonably foreseeable time. Consequently, the Department has revoked this order, effective August 18, 2005. See Revocation of Antidumping and Countervailing Duty Orders: Structural Steel Beams from Japan and South Korea, 71 FR 15375 (March 28, 2006). Therefore, there is no need to issue new cash deposit instructions for this administrative review.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i) of the Act.

Dated: December 27, 2006.
Stephen J. Claeys,
Acting Assistant Secretary for Import Administration.

[FR Doc. E6-22556 Filed 1-3-07; 8:45 am]

BILLING CODE 3510-DS-S